Title 3—

The President

Proclamation 9533 of October 31, 2016

Critical Infrastructure Security and Resilience Month, 2016

By the President of the United States of America

A Proclamation

From the energy that powers our homes to the systems that allow us to communicate with one another, our critical infrastructure is essential to the stability and strength of our national security, economy, and public health. The assets, networks, and systems that enable us to innovate and prosper are necessary for sustaining and supporting the well-being of our Nation, and our increasing dependence on them makes securing and protecting them a top priority. This month, we recognize the importance of our critical infrastructure and resolve to safeguard these vital systems so they remain strong and resilient.

Our critical infrastructure spans a wide array of structures and systems we rely on to meet our day-to-day needs. It includes government facilities, the electric grid, transportation and water systems, information technology, and financial systems—all which play an equally important role in maintaining our way of life. These complex systems work together to keep us safe and healthy, and although they are among the most advanced and secure in the world, we must remain vigilant and ensure their resilience by mitigating the threats and stresses that can weaken them.

Securing our complex critical infrastructure systems requires cooperation and sustained commitment from everyone, which is why my Administration is working with businesses, infrastructure owners, and officials at all levels of government to protect them. We must take necessary steps to modernize our roads, bridges, pipes, and ports to ensure they remain resilient and strong—especially as climate change becomes an increasing risk, causing more extreme weather events that threaten our infrastructure. In addition to physical threats and hazards, cybersecurity risks pose another significant challenge to our Nation. We must ensure that addressing threats to the security of our data and our digital networks remains a priority. By partnering with the private sector, and with the help of the American people, we can prepare our critical infrastructure to withstand and respond to cyber threats, terrorist attacks, acts of nature including space weather events, and other threats and hazards.

Three years ago, I issued a Presidential Policy Directive to strengthen and maintain secure and resilient critical infrastructure. Today, we are continuing to carry out this vision for how Government and the private sector can work together to reduce risks and increase the stability and security of our infrastructure. And because our world has never been more interconnected, we know that keeping our critical infrastructure functioning will require collaboration with international partners. That is why we are working to promote global critical infrastructure security and resilience through information sharing with partners around the world.

As our population grows and our technology advances, the demands of our critical infrastructure become increasingly significant. During Critical Infrastructure Security and Resilience Month, we recommit to reducing risks to these important systems and preparing to adapt and respond to any incident that may occur. To ensure more Americans can thrive in a future of greater safety, stability, and prosperity, we must protect and enhance these essential elements of our cyber and physical infrastructure for generations to come.

NOW, THEREFORE, I, BARACK OBAMA, President of the United States of America, by virtue of the authority vested in me by the Constitution and the laws of the United States, do hereby proclaim November 2016 as Critical Infrastructure Security and Resilience Month. I call upon the people of the United States to recognize the importance of protecting our Nation's infrastructure and to observe this month with appropriate events and training to enhance our national security and resilience.

IN WITNESS WHEREOF, I have hereunto set my hand this thirty-first day of October, in the year of our Lord two thousand sixteen, and of the Independence of the United States of America the two hundred and forty-first.

[FR Doc. 2016-26800

Filed 11-2-16; 11:15 am]

Billing code 3295-F7-P